DEPARTMENT OF ENERGY

Federal Energy Regulatory Commission

[Docket No. EC05-95-000, et al.]

Calpine Construction Finance Company, L.P., et al.; Electric Rate and Corporate Filings

June 17, 2005.

The following filings have been made with the Commission. The filings are listed in ascending order within each docket classification.

1. Calpine Construction Finance Company, L.P. and Alabama Power Company

[Docket No. EC05-95-000]

Take notice that on June 14, 2005, Calpine Construction Finance Company, L.P. (Calpine) and Alabama Power Company (Alabama Power) jointly filed with the Commission, an application for authorization under section 203 of the Federal Power Act for a transfer from Calpine to Alabama Power of limited jurisdictional facilities, consisting of a 230 kV switching station, which interconnects a Calpine generating facility (the Hillabee Energy Center) to the Alabama Power transmission system.

Comment Date: 5 p.m. Eastern Time on June 28, 2005.

2. West Texas Renewables Limited Partnership

[Docket No. EG05- 72-000]

Take notice that on June 15, 2005, West Texas Renewables (Westex), 3300 South Moss Lake Road, Big Spring, Texas 79720, filed with the Federal Energy Regulatory Commission an application for determination of exempt wholesale generator status pursuant to part 365 of the Commission's regulations.

Westex owns a wind generation facility with a maximum output of 6.6 MW located in Howard County, Texas.

Comment Date: 5 p.m. Eastern Time on July 6, 2005.

3. Cook Inlet Power, L.P. and Cook Inlet Energy Supply, L.L.C.

[Docket Nos. ER05-997-001 and ER05-998-001]

Take notice that on June 15, 2005, Cook Inlet Power, L.P. (CIP) and Cook Inlet Energy Supply, L.L.C. (CIES) submitted an amendment to its May 20, 2005 filing Notice of Cancellation of their market-based rate tariffs to request an effective date of May 21, 2005.

Comment Date: 5 p.m. on June 27, 2005.

4. Celerity Energy of New Mexico, LLC

[Docket No. ER05-1064-001]

Take notice that on June 15, 2005, Celerity Energy of New Mexico, LLC (Celerity-New Mexico) submitted for filing in accordance with § 35.15 of the rules of practice and procedure of the Commission, 18 CFR 35.15, an amendment to a notice of cancellation of its FERC Electric Tariff, Original Volume No. 1, which had been filed in Docket No. ER01-1183-002 on June 2, 2005. The instant filing Celerity-New Mexico, seeks to amend the notice of cancellation to request a June 3, 2005 effective date.

Comment Date: 5 p.m. on June 22, 2005.

Standard Paragraph

Any person desiring to intervene or to protest in any of the above proceedings must file in accordance with Rules 211 and 214 of the Commission's Rules of Practice and Procedure (19 CFR 385.211 and 385.214) on or before 5 p.m. Eastern Time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to long on and submit the intervention or protests.

Persons unable to file electronically should submit an original and 14 copies of the intervention or protests to the Federal Energy Regulatory Commission, 888 First Street, NE., Washington, DC 20426.

The filings in the above proceedings are accessible in the Commission's eLibrary system by clicking on the appropriate link in the above list. They are also available to review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TYY, call (202) 502-8659.

Linda Mitry,
Deputy Secretary.

[FR Doc. E5-3288 Filed 6-23-05; 8:45 am]

BILLING CODE 6717-01-P